NATIONAL SCIENCE FOUNDATION

National Science Board; Revised Sunshine Act Meetings; Notice

Federal Register Citation of Previous Announcement: 76 FR 37380, June 27, 2011.

The National Science Board's Committee on Strategy and Budget, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

DATE AND TIME: Wednesday, July 6, 2011, at 8 a.m.—3 p.m., EDT.

CLOSED SUBJECT MATTER: Discussion on Planning NSF's FY 2013 Budget.

STATUS: Closed (8 a.m.-12 p.m.).

OPEN SUBJECT MATTER: Long Range Strategic Planning.

STATUS: Open (12:30-2:30 p.m.).

CLOSED SUBJECT MATTER: Review of NSF's FY 2013 Budget Plan.

STATUS: Closed (2:30-3 p.m.).

LOCATION: This meeting will be held at the National Science Foundation, 4201 Wilson Blvd., Room 1235, Arlington, VA 22230. For the Open Subject Matter: all visitors must contact the Board Office [call 703-292-7000 or send an e-mail message to nationalsciencebrd@nsf.gov] at least 24 hours prior to the meeting and provide name and organizational affiliation. All visitors must report to the NSF visitor desk located in the lobby at the 9th and N. Stuart Streets entrance on the day of the meeting to receive a visitor's badge. Photo identification is required.

Please refer to the National Science Board Web site (http://www.nsf.gov/nsb/notices/) for information or schedule updates, or contact: Blane Dahl or Jennie Moehlmann, National Science Foundation, 4201 Wilson Blvd., Arlington, VA 22230. Telephone: (703) 292-7000.

Ann Ferrante,
Writer-Editor.

[FR Doc. 2011-16815 Filed 6-30-11; 11:15 am]

BILLING CODE 7555-01-P